DEPARTMENT OF ENERGY

Federal Energy Regulatory Commission

Combined Notice of Filings #2

Take notice that the Commission received the following electric rate filings:

Docket Numbers: ER10-1484-018; ER13-1069-007; ER12-2381-004.

Applicants: Shell Energy North America (US), L.P., MP2 Energy LLC, MP2 Energy NE LLC.

Description: Notice of Non-Material Change in Status of Shell Energy North America (US), L.P., et al.

Filed Date: 1/31/19.

Accession Number: 20190131-5308.

Comments Due: 5 p.m. ET 2/21/19.

Docket Numbers: ER17-2341-001.

Applicants: CA Flats Solar 130, LLC.

Description: Compliance filing: Notice of Change in Category Status to be effective 6/19/2018.

Filed Date: 2/1/19.

Accession Number: 20190201-5126.

Comments Due: 5 p.m. ET 2/22/19.

Docket Numbers: ER19-954-000.

Applicants: Alta Wind VIII, LLC.

Description: § 205(d) Rate Filing: Amendment to Market Base Rate Tariff to be effective 10/16/2017.

Filed Date: 2/1/19.

Accession Number: 20190201-5087.

Comments Due: 5 p.m. ET 2/22/19.

Docket Numbers: ER19-955-000.

Applicants: Brookfield Energy Marketing Inc.

Description: § 205(d) Rate Filing: Amendment to Market Base Rate Tariff to be effective 10/16/2017.

Filed Date: 2/1/19.

Accession Number: 20190201-5088.

Comments Due: 5 p.m. ET 2/22/19.

Docket Numbers: ER19-956-000.

Applicants: ITC Midwest LLC, Midcontinent Independent System Operator, Inc.

Description: § 205(d) Rate Filing: 2019-02-01_ITCM Attachment O Filing for Intangible Plant to be effective 1/1/2020.

Filed Date: 2/1/19.

Accession Number: 20190201-5089.

Comments Due: 5 p.m. ET 2/22/19.

Docket Numbers: ER19-957-000.

Applicants: Brookfield Energy Marketing LP.

Description: § 205(d) Rate Filing: Amendment to Market Base Rate Tariff to be effective 10/16/2017.

Filed Date: 2/1/19.

Accession Number: 20190201-5090.

Comments Due: 5 p.m. ET 2/22/19.

Docket Numbers: ER19-958-000.

Applicants: Brookfield Energy Marketing US LLC.

Description: § 205(d) Rate Filing: Amendment to Market Base Rate Tariff to be effective 10/16/2017.

Filed Date: 2/1/19.

Accession Number: 20190201-5092.

Comments Due: 5 p.m. ET 2/22/19.

Docket Numbers: ER19-959-000.

Applicants: Mesa Wind Power Corporation.

Description: § 205(d) Rate Filing: Amendment to Market Base Rate Tariff to be effective 10/16/2017.

Filed Date: 2/1/19.

Accession Number: 20190201-5094.

Comments Due: 5 p.m. ET 2/22/19.

Docket Numbers: ER19-960-000.

Applicants: Windstar Energy, LLC.

Description: § 205(d) Rate Filing: Amendment to Market Base Rate Tariff to be effective 10/16/2017.

Filed Date: 2/1/19.

Accession Number: 20190201-5096.

Comments Due: 5 p.m. ET 2/22/19.

Docket Numbers: ER19-961-000.

Applicants: Southern California Edison Company.

Description: § 205(d) Rate Filing: Amended LGIA Solar Star California XX, LLC True-Up SA No. 111 to be effective 4/3/2019.

Filed Date: 2/1/19.

Accession Number: 20190201-5097.

Comments Due: 5 p.m. ET 2/22/19.

Docket Numbers: ER19-962-000.

Applicants: Duke Energy Florida, LLC.

Description: Notice of Cancellation of Service Agreement for Firm Point-To-Point Transmission Service of Duke Energy Florida, LLC.

Filed Date: 1/31/19.

Accession Number: 20190131-5323.

Comments Due: 5 p.m. ET 2/21/19.

Docket Numbers: ER19-963-000.

Applicants: Duke Energy Ohio, Inc., PJM Interconnection, L.L.C.

Description: § 205(d) Rate Filing: Duke Energy Ohio, Inc. submits IA SA No. 1491 to be effective 12/12/2018.

Filed Date: 2/1/19.

Accession Number: 20190201-5121.

Comments Due: 5 p.m. ET 2/22/19.

Docket Numbers: ER19-964-000.

Applicants: Alabama Power Company.

Description: Notice of Termination of Agreement for Transmission and Other Complementary Services of Alabama Power Company.

Filed Date: 1/31/19.

Accession Number: 20190131-5329.

Comments Due: 5 p.m. ET 2/21/19.

Docket Numbers: ER19-965-000.

Applicants: Alabama Power Company, Georgia Power Company, Mississippi Power Company.

Description: Notice of Termination of Large Generator Interconnection Agreement of Alabama Power Company, et al.

Filed Date: 1/31/19.

Accession Number: 20190131-5331.

Comments Due: 5 p.m. ET 2/21/19.

Docket Numbers: ER19-966-000.

Applicants: Fairless Energy, L.L.C.

Description: § 205(d) Rate Filing: Notice of Succession to be effective12/17/2018.

Filed Date: 2/1/19.

Accession Number: 20190201-5172.

Comments Due: 5 p.m. ET 2/22/19.

Docket Numbers: ER19-967-000.

Applicants: Fairless Energy, L.L.C.

Description: § 205(d) Rate Filing: Notice of Succession to be effective12/17/2018.

Filed Date: 2/1/19.

Accession Number: 20190201-5173.

Comments Due: 5 p.m. ET 2/22/19.

Docket Numbers: ER19-968-000.

Applicants: Manchester Street, L.L.C.

Description: § 205(d) Rate Filing: Notice of successionj. to be effective12/14/2018.

Filed Date: 2/1/19.

Accession Number: 20190201-5174.

Comments Due: 5 p.m. ET 2/22/19.

Docket Numbers: ER19-969-000.

Applicants: Midcontinent Independent System Operator, Inc.

Description: § 205(d) Rate Filing: 2019-02-01_SA 3229 ITC-MidAmerican FCA (J475) to be effective 1/17/2019.

Filed Date: 2/1/19.

Accession Number: 20190201-5176.

Comments Due: 5 p.m. ET 2/22/19.

Docket Numbers: ER19-970-000.

Applicants: Tucson Electric Power Company.

Description: Tariff Cancellation: Cancellation of Service Agreement No. 363 to be effective 2/1/2019.

Filed Date: 2/1/19.

Accession Number: 20190201-5202.

Comments Due: 5 p.m. ET 2/22/19.

Take notice that the Commission received the following electric securities filings:

Docket Numbers: ES19-5-000.

Applicants: Cube Yadkin Transmission LLC.

Description: Amendment to December 12, 2018 Application under for Authorization Section 204 of the Federal Power Act of Cube Yadkin Transmission LLC.

Filed Date: 1/31/19.

Accession Number: 20190131-5332.

Comments Due: 5 p.m. ET 2/21/19.

Take notice that the Commission received the following foreign utility company status filings:

Docket Numbers: FC19-3-000.

Applicants: I Squared Capital.

Description: Notification of Self-Certification of Foreign Utility Company Status of the Conrad Companies.

Filed Date: 2/1/19.

Accession Number: 20190201-5111.

Comments Due: 5 p.m. ET 2/22/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Issued: February 1, 2019.
Kimberly D. Bose,
Secretary.

[FR Doc. 2019-01653 Filed 2-7-19; 8:45 am]

BILLING CODE 6717-01-P